DEPARTMENT OF LABOR

Employment and Training Administration

[TA-W-41,377E; TA-W-41,377F]

Levi Strauss & Co, San Antonio Finishing Plant, San Antonio, TX; Levi Strauss & Co, San Benito Manufacturing Plant, San Benito, TX; Notice of Determination Regarding Eligibility To Apply for Worker Adjustment Assistance and NAFTA Transitional Adjustment Assistance; Correction

ACTION: Notice; correction.

SUMMARY: The Department of Labor, Employment and Training Administration published a document in the Federal Register on July 22, 2002, titled Notice of Determinations Regarding Eligibility to Apply for Worker Adjustment Assistance and NAFTA Transitional Adjustment Assistance. The Department is issuing a restructured paragraph for clarification purposes.

Correction

This is to correct the “text” caption in the Federal Register of July 22, 2002, in FR Doc. 02-18420, on page 47861, in the third column, under the heading Affirmative Determinations for Worker Adjustment Assistance, to read:

TA-W-41,377E; Levi Strauss & Co., San Antonio Finishing Plant, San Antonio, Texas, TA-W-41,377F; Levi Strauss & Co., San Benito Manufacturing Plant, San Benito, Texas.

Signed in Washington, DC this 5th day of June 2008.
Elliott S. Kushner,
Certifying Officer, Division of Trade Adjustment Assistance.

[FR Doc. E8-12974 Filed 6-9-08; 8:45 am]

BILLING CODE 4510-FN-P